DEPARTMENT OF HEALTH AND HUMAN SERVICES

Food and Drug Administration

[Docket No. FDA-2023-N-3595]

Agency Information Collection Activities; Proposed Collection; Improving the Quality and Representativeness of the Treatment Center Program Data—Data Modifications to the Current Survey Instrument Format to Minimize Misclassification; Withdrawal of Notice

AGENCY: Food and Drug Administration, HHS.

ACTION: Notice; withdrawal.

SUMMARY: The Food and Drug Administration (FDA) is announcing the withdrawal of a notice that was published in the Federal Register of October 18, 2023.

DATES: The notice is withdrawn on January 17, 2025.

FOR FURTHER INFORMATION CONTACT: Darren Eicken, Center for Drug Evaluation and Research, Food and Drug Administration, 10903 New Hampshire Ave. Bldg. 51, Rm. 6206, Silver Spring, MD 20993-0002, 240-402-0978.

SUPPLEMENTARY INFORMATION: In a notice published in the Federal Register of October 18, 2023 (88 FR 71875), “Agency Information Collection Activities; Proposed Collection; Comment Request: Improving the Quality and Representativeness of the Treatment Center Program Data—Data Modifications to the Current Survey Instrument Format to Minimize Misclassification.” FDA requested comment on the information collection associated with the proposed study entitled “Improving the Quality and Representativeness of the Treatment Center Program Data—Data Modifications to the Current Survey Instrument Format to Minimize Misclassification.”

Under the Paperwork Reduction Act of 1995, Federal Agencies are required to publish notice in the Federal Register concerning each proposed collection of information, including each proposed extension of an existing collection of information, and to allow 60 days for public comment in response to the notice.

In the October 18, 2023, Federal Register notice, FDA proposed a new collection of information. However, FDA no longer intends to proceed with the proposed study due to circumstances and timing surrounding the execution of the study. Therefore, we are withdrawing the October 18, 2023 notice.

Dated: January 13, 2025.
P. Ritu Nalubola,
Associate Commissioner for Policy.

[FR Doc. 2025-01152 Filed 1-16-25; 8:45 am]

BILLING CODE 4164-01-P